DEPARTMENT OF THE INTERIOR

Fish and Wildlife Service

Notice of Receipt of Endangered Species Recovery Permit Applications

AGENCY: Fish and Wildlife Service, Interior.

ACTION: Notice of receipt of permit applications.

SUMMARY: The following applicants have applied for a scientific research permit to conduct certain activities with endangered species pursuant to section 10(a)(1)(A) of the Endangered Species Act (16 U.S.C. 1531 et seq.). We, the U.S. Fish and Wildlife Service, solicit review and comment from local, State, and Federal agencies, and the public on the following permit requests.

DATES: Comments on these permit applications must be received on or before February 18, 2003 to receive our consideration.

ADDRESSES: Written data or comments should be submitted to the Chief, Endangered Species, Ecological Services, U.S. Fish and Wildlife Service, 911 NE., 11th Avenue, Portland, Oregon 97232-4181 (fax: (503) 231-6243). Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above (telephone: (503) 231-2063). Please refer to the respective permit number for each application when requesting copies of documents.

SUPPLEMENTARY INFORMATION:

Permit No. TE-006112

Applicant: Gretchen Padgett-Flohr, Fremont, California.

The permittee requests an amendment to take (harass by survey, capture, release, and collect voucher specimens) the Sonoma and Santa Barbara distinct population segments of the California tiger salamander (Ambystoma californiense) in conjunction with demographic research in Sonoma and Santa Barbara Counties, California for the purpose of enhancing their survival.

Permit No. TE-065493

Applicant: Peter Trenham, Davis, California.

The applicant requests a permit to take (harass by survey, collect, and sacrifice) the Conservancy fairy shrimp (Branchinecta conservatio), the longhorn fairy shrimp (Branchinecta longiantenna), the vernal pool fairy shrimp (Branchinecta lynchi), and the vernal pool tadpole shrimp (Lepidurus packardi) in conjunction with population demographic studies throughout the range of each species for the purpose of enhancing their survival.

Permit No. TE-065741

Applicant: John Lovio, San Diego, California.

The applicant requests a permit to take (monitor nests) the least Bell's vireo (Vireo bellii pusillus), take (harass by survey and monitor nests) the southwestern willow flycatcher (Empidonax traillii extimus), and take (survey by pursuit) the Quino checkerspot butterfly (Euphydryas editha quino) in conjunction with surveys throughout the range of each species in California for the purpose of enhancing their survival.

Permit No. TE-065923

Applicant: Jon Winter, Santa Rosa, California.

The permittee requests an amendment to take (harass by survey, capture, and release) the Sonoma distinct population segment of the California tiger salamander (Ambystoma californiense) in conjunction with demographic research in Sonoma County, California for the purpose of enhancing its survival.

We solicit public review and comment on each of these recovery permit applications.

Dated: December 13, 2002.
Rowan Gould,
Regional Director, Region 1, Fish and Wildlife Service.

[FR Doc. 03-908 Filed 1-15-03; 8:45 am]

BILLING CODE 4310-55-P